DEPARTMENT OF AGRICULTURE

Farm Service Agency

Information Collection: Emergency Conservation Program (ECP) and Biomass Crop Assistance Program (BCAP)

AGENCY: Farm Service Agency, USDA.

ACTION: Notice; request for comments.

SUMMARY: In accordance with the Paperwork Reduction Act of 1995, the Farm Service Agency (FSA) is seeking comments from all interested individuals and organizations on an extension with a revision of currently approved information collection associated with the Emergency Conservation Program (ECP) and Biomass Crop Assistance Program (BCAP). This information is collected in support of, respectively, Section 401 of the Agricultural Credit Act of 1978, as amended, and Section 9011 of the Farm Security and Rural Investment Act of 2002, as amended.

DATES: We will consider comments that we receive by May 20, 2014.

ADDRESSES: We invite you to submit comments on this Notice. In your comment, include the volume, date, and page number of this issue of the Federal Register. You may submit comments by any of the following methods:

• Federal eRulemaking Portal: Go to: www.regulations.gov. Follow the online instructions for submitting comments.

• Mail: Martin Bomar, ECP Program Manager, Conservation and Environmental Programs Division, Farm Service Agency, United States Department of Agriculture, STOP 0513, 1400 Independence Avenue SW., Washington, DC 20250-0513.

You may also send comments to the Desk Officer for Agriculture, Office of Information and Regulatory Affairs, Office of Management and Budget, Washington, DC 20503. Copies of the information collection may be requested by contacting Martin Bomar.

FOR FURTHER INFORMATION CONTACT: Martin Bomar, ECP Program Manager, (202) 205-4537.

SUPPLEMENTARY INFORMATION:

Description of Information Collection

Title: Emergency Conservation Program and Biomass Crop Assistance Program.

OMB Control Number: 0560-0082.

Expiration Date: June 30, 2014.

Type of Request: Extension and Revision of a Currently Approved Information Collection.

Abstract: The collection of this information is necessary to allow FSA to: (1) Effectively administer the regulations under ECP, which are set forth at 7 CFR part 701 so as to provide funding and technical assistance for farmers and ranchers to restore farmland damaged by natural disasters and for emergency water conservation measures in severe droughts; and, (2) effectively administer the regulations for BCAP, which are set forth at 7 CFR part 1450, so as to provide financial assistance to owners and operators of agricultural and non-industrial private forest land who wish to establish, produce, and deliver biomass feedstocks. This information is collected in support of, respectively, Section 401 of the Agricultural Credit Act of 1978 (Pub. L. 95-334), as amended, and Section 9011 of the Farm Security and Rural Investment Act of 2002 (Pub. L. 107-171), as amended. The revision of the currently approved information collection is necessitated by the replacement of form series AD-245 and its associated computing process, with the new form series FSA-848 and a web-based computing environment.

Estimate of Burden: Public reporting burden for this collection of information is estimated to average .3 hours (19 minutes) per response. The average travel time, which is included in the total annual burden, is estimated to be 1 hour per respondent.

Respondents: Owners, operators and other eligible agricultural producers on eligible farmland.

Number of Respondents: 258,990.

Estimated Number of Responses per Respondent: 1.

Estimated Annual Number of Respondents: 492,265.

Estimated Total Annual Burden Hours: 93,953.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All responses to this notice, including names and addresses when provided, will be summarized and included in the request for OMB approval. All comments will also become a matter of public record.

Signed on March 14, 2014.
Juan M. Garcia,
Administrator, Farm Service Agency.

[FR Doc. 2014-06192 Filed 3-20-14; 8:45 am]

BILLING CODE 3410-05-P